DEPARTMENT OF THE TREASURY

Office of the Comptroller of the Currency

FEDERAL RESERVE SYSTEM

FEDERAL DEPOSIT INSURANCE CORPORATION

Proposed Agency Information Collection Activities; Comment Request

AGENCY: Office of the Comptroller of the Currency (OCC), Treasury; Board of Governors of the Federal Reserve System (Board); and Federal Deposit Insurance Corporation (FDIC).

ACTION: Joint notice and request for comment.

SUMMARY: In accordance with the requirements of the Paperwork Reduction Act of 1995 (PRA), the OCC, the Board, and the FDIC (collectively, the “agencies”) may not conduct or sponsor, and the respondent is not required to respond to, an information collection unless it displays a currently valid Office of Management and Budget (OMB) control number. On January 19, 2024, the agencies under the auspices of the Federal Financial Institutions Examination Council (FFIEC), requested public comment for 60 days on a proposal to revise and extend the Foreign Branch Report of Condition (FFIEC 030) and the Abbreviated Foreign Branch Report of Condition (FFIEC 030S), which are currently approved collections of information. These proposed revisions would incorporate line items from the FR 2502q, Quarterly Report of Assets and Liabilities of Large Foreign Offices of U.S. Banks (OMB Control No. 7100-0079) into the FFIEC 030. There are no proposed revisions to the FFIEC 030S. As described in the SUPPLEMENTARY INFORMATION section, the agencies are proceeding with the proposed revisions, but with certain modifications. In addition, the agencies will make clarifying revisions to the instructions in response to a comment received. The agencies are giving notice that they are sending the collections to OMB for review.

DATES: Comments must be submitted on or before November 6, 2024.

ADDRESSES: Interested parties are invited to submit written comments to any or all of the agencies. All comments, which should refer to the “FFIEC 030 or FFIEC 030S,” will be shared among the agencies.

OCC: You may submit comments, which should refer to “FFIEC 030 or FFIEC 030S,” by any of the following methods:

• Email: prainfo@occ.treas.gov.

• Mail: Chief Counsel's Office, Office of the Comptroller of the Currency, Attention: 1557-0099, 400 7th Street SW, Suite 3E-218, Washington, DC 20219.

• Hand Delivery/Courier: 400 7th Street SW, Suite 3E-218, Washington, DC 20219.

• Fax: (571) 293-4835.

Instructions: You must include “OCC” as the agency name and “1557-0099” in your comment. In general, the OCC will publish comments on www.reginfo.gov without change, including any business or personal information provided, such as name and address information, email addresses, or phone numbers. Comments received, including attachments and other supporting materials, are part of the public record and subject to public disclosure. Do not include any information in your comment or supporting materials that you consider confidential or inappropriate for public disclosure.

You may review comments and other related materials that pertain to this information collection beginning on the date of publication of the second notice for this collection by the method set forth in the next bullet.

• Viewing Comments Electronically: Go to www.reginfo.gov. Hover over the “Information Collection Review” drop-down menu and select “Information Collection Review.” Underneath the “Currently under Review” section heading, from the drop-down menu select “Department of Treasury” and then click “submit.” This information collection can be located by searching OMB control number “1557-0099” or “FFIEC 030 or FFIEC 030S.” Upon finding the appropriate information collection, click on the related “ICR Reference Number.” On the next screen, select “View Supporting Statement and Other Documents” and then click on the link to any comment listed at the bottom of the screen.

• For assistance in navigating www.reginfo.gov, please contact the Regulatory Information Service Center at (202) 482-7340.

Board: You may submit comments, which should refer to “FFIEC 030 or FFIEC 030S,” by any of the following methods:

• Agency website: http://www.federalreserve.gov. Follow the instructions for submitting comments at: http://www.federalreserve.gov/generalinfo/foia/ProposedRegs.cfm.

• Email: regs.comments@federalreserve.gov. Include “FFIEC 030 or FFIEC 030S” in the subject line of the message.

• Fax: (202) 395-6974.

• Mail: Ann E. Misback, Secretary, Board of Governors of the Federal Reserve System, 20th Street and Constitution Avenue NW, Washington, DC 20551.

In general, all public comments are available on the Board's website at https://www.federalreserve.gov/apps/foia/proposedregs.aspx as submitted, and will not be modified to remove confidential, contact or any identifying information.

FDIC: You may submit comments, which should refer to “FFIEC 030 or FFIEC 030S,” by any of the following methods:

• Agency Website: https://www.fdic.gov/resources/regulations/federal-register-publications/. Follow the instructions for submitting comments on the FDIC's website.

• Email: comments@FDIC.gov. Include “FFIEC 030 or FFIEC 030S” in the subject line of the message.

• Mail: Manuel E. Cabeza, Counsel, Attn: Comments, Room MB-3128, Federal Deposit Insurance Corporation, 550 17th Street NW, Washington, DC 20429.

• Hand Delivery: Comments may be hand delivered to the guard station at the rear of the 550 17th Street Building (located on F Street) on business days between 7:00 a.m. and 5:00 p.m.

• Public Inspection: All comments received will be posted without change to https://www.fdic.gov/resources/regulations/federal-register-publications/ including any personal information provided. Paper copies of public comments may be requested from the FDIC Public Information Center by telephone at (877) 275-3342 or (703) 562-2200.

Written comments and recommendations for this information collection also should be sent within 30 days of publication of this document to www.reginfo.gov/public/do/PRAMain. Find this particular information collection by selecting “Currently under 30-day Review—Open for Public Comments” or by using the search function.

FOR FURTHER INFORMATION CONTACT: For further information about the proposed revisions to the information collections discussed in this notice, please contact any of the agency staff whose names appear below. In addition, copies of the report forms for the FFIEC 030 and FFIEC 030S can be obtained at the FFIEC's website (https://www.ffiec.gov/ffiec_report_forms.htm).

OCC: Kevin Korzeniewski, Counsel, (202) 649-5490, Chief Counsel's Office, Office of the Comptroller of the Currency. If you are deaf, hard of hearing, or have a speech disability, please dial 7-1-1 to access telecommunications relay services.

Board: Nuha Elmaghrabi, Federal Reserve Board Clearance Officer, (202) 452-3884, Office of the Chief Data Officer, Board of Governors of the Federal Reserve System, 20th and C Streets NW, Washington, DC 20551. Telecommunications Device for the Deaf (TDD) users may call (202) 263-4869.

FDIC: Manuel E. Cabeza, Counsel, (202) 898-3767, Legal Division, Federal Deposit Insurance Corporation, 550 17th Street NW, Washington, DC 20429.

SUPPLEMENTARY INFORMATION: The agencies propose to extend for three years, with revision, the FFIEC 030 and the FFIEC 030S.

I. Report Summary

Report Title: Foreign Branch Report of Condition.

Form Number: FFIEC 030 and FFIEC 030S.

Frequency of Response: Annually, and quarterly for significant branches.

Affected Public: Business of other for profit.

OCC

OMB Control Number: 1557-0099.

Estimated Number of Respondents: 57 quarterly respondents (FFIEC 030); 42 annual respondents (FFIEC 030); 12 annual respondents (FFIEC 030S).

Estimated Average Burden per Response: 3.91 burden hours (FFIEC 030 Quarterly); 2.98 burden hours (FFIEC 030 Annual) 0.95 burden hours (FFIEC 030S).

Estimated Total Annual Burden: 1,028.04 burden hours.

Board

OMB Control Number: 7100-0071.

Estimated Number of Respondents: 21 quarterly respondents (FFIEC 030); 10 annual respondents (FFIEC 030); 9 annual respondents (FFIEC 030S).

Estimated Average Burden per Response: 3.91 burden hours (FFIEC 030 Quarterly); 2.98 burden hours (FFIEC 030 Annual); 0.95 burden hours (FFIEC 030S).

Estimated Total Annual Burden: 366.79 burden hours.

FDIC

OMB Control Number: 3064-0011 (FDIC).

Estimated Number of Respondents: 0 quarterly respondents (FFIEC 030); 4 annual respondents (FFIEC 030); 3 annual respondents (FFIEC 030S).

Estimated Average Burden per Response: 3.91 burden hours (FFIEC 030 Quarterly); 2.98 burden hours (FFIEC 030 Annual); 0.95 burden hours (FFIEC 030S).

Estimated Total Annual Burden: 14.77 burden hours.

II. Legal Basis and Need for Collection

This information collection is mandatory: 12 U.S.C. 602 (Board); 12 U.S.C. 161 and 602 (OCC); and 12 U.S.C. 1828 (FDIC). This information collection is given confidential treatment under 5 U.S.C. 552(b)(4) and (8).

The FFIEC 030 collects asset and liability information for foreign branches of insured U.S. banks and insured U.S. savings associations (U.S. depository institutions) and is required for regulatory and supervisory purposes. The information is used to analyze the foreign operations of U.S. institutions. All foreign branches of U.S. institutions regardless of charter type file this report as provided in the instructions to the FFIEC 030 and FFIEC 030S. A U.S. depository institution generally must file a separate report for each foreign branch, but in some cases may consolidate filing for multiple foreign branches in the same country, as described below.

A branch with either total assets of at least $2 billion or commitments to purchase foreign currencies and U.S. dollar exchange of at least $5 billion as of the end of a calendar quarter is considered a “significant branch” and an FFIEC 030 report is required to be filed quarterly. A U.S. depository institution with a foreign branch having total assets in excess of $250 million that does not meet either of the criteria to file quarterly must file the entire FFIEC 030 report for this foreign branch on an annual basis as of December 31, with respect to this foreign branch.

A U.S. depository institution with a foreign branch having total assets of $50 million, but less than or equal to $250 million that does not meet the criteria to file the FFIEC 030 report must file the FFIEC 030S report for this foreign branch on an annual basis as of December 31. A U.S. depository institution with a foreign branch having total assets of less than $50 million is exempt from filing the FFIEC 030 and 030S reports.

III. Current Actions

On January 19, 2024, the agencies proposed revisions to the FFIEC 030 that would incorporate line items from the FR 2502q. The comment period for the January notice ended on March 19, 2024. The agencies received comments from two banking associations. These comments were generally supportive of the proposed new line items. After reviewing the comments, the agencies are moving forward with the proposed revisions to the FFIEC 030, with certain modifications. The specific comments, the agencies' responses, and pertinent modifications follow.

First, one commenter urged the agencies to limit the scope of respondents subject to the proposed Schedule RAL-A to those that meet the current criteria to file the FR 2502q. The commenter stated that there are significant scoping differences between the FR 2502q and the FFIEC 030. The FR 2502q reporting is limited to branches with total assets of $2 billion or more and that are located in the United Kingdom (U.K.) or the Caribbean. The FFIEC 030 quarterly reporting requirements, however, scope in any branch with either total assets of at least $2 billion or commitments to purchase foreign currencies and U.S. dollar exchange (a purchase of U.S. dollar exchange is equivalent to a sale of foreign currency) of at least $5 billion as of the end of a calendar quarter. The commenter stated that the FFIEC 030's reporting scope, without the geographic limitation to branches in the U.K. and the Caribbean, results in a much greater reporting burden on firms.

Furthermore, this commenter also stated that the proposed changes and increased granularity of the items reported would necessitate both the development of new systems, as well as modifications to existing ones. For example, the commenter noted the amount to be reported on proposed Schedule RAL-A, line item 5, “Assets that are claims on U.S. addressees other than depository institutions,” includes new sub-line items that are more granular than the amount currently reported in FR 2502q item 1.c, “U.S. addresses other than depository institutions,” and would increase burden to all filers of the FFIEC 030. This reporting burden would be greatest on respondents that have newly scoped-in entities that would be reporting this information for the first time. In light of this, the commenter requested that, if the scope of respondents on the proposed FFIEC 030 Schedule RAL-A is not limited to those that currently meet the criteria to file the FR 2502q, branches would need at least four quarters from publication of the final forms and instructions to implement the revisions. However, if the scope were limited to branches that meet the current criteria to file the FR 2502q, branches would only need two additional quarters to implement the proposal.

The agencies acknowledge that branches may need additional time to develop their reporting systems to implement these changes. As such, the agencies will delay the implementation date based on the branch meeting the criteria to file the FR 2502q. Beginning as of the March 31, 2025, report date, all branches that are located in the U.K. or Caribbean (that are not located in a U.S. military facility), and with total assets of at least $2 billion (as reported in Schedule RAL, item 11) as of the end of the calendar quarter, must complete new Schedule RAL-A. Beginning as of the December 31, 2025, report date, all branches required to report the FFIEC 030 on a quarterly basis must complete new Schedule RAL-A without any geographic limitation of being located in the U.K. or Caribbean. Branches that file the FFIEC 030 on an annual basis do not need to report the new items. The FFIEC 030 instructions will be updated to reflect these changes.

Second, the commenter requested that the agencies clarify the reporting of proposed Schedule RAL-A, line item 5, “Assets that are claims on U.S. addressees other than depository institutions,” by adding a Micro Data Reference Manual (MDRM) number and to include in the instructions that this line item is not an aggregate total of its sub-items. The commenter also requested that the agencies clarify whether Schedule RAL-A, line item 6, “Liabilities to U.S. addressees other than depository institutions,” is intended to extend to all liabilities or if respondents should report only deposit liabilities. In response, the agencies are revising the report form by adding a MDRM to line item 5 on Schedule RAL-A and also clarifying in the instructions that line item 5 on Schedule RAL-A is not an aggregate total of sub-items 5.a through 5.d. The agencies are also clarifying in the instructions of Scheduled RAL-A, line item 6, that it is intended to extend to all liabilities and not only to deposit liabilities.

Lastly, separate from this proposal, on June 7, 2024, the Board published in the Federal Register an initial notice ¹ requesting public comment for 60 days on the extension with revision to the Financial Statements of Foreign Subsidiaries of U.S. Banking Organizations (FR 2314). The comment period of the June notice ended on August 6, 2024, and the Board received a comment from a banking trade organization regarding the proposed changes to the FFIEC 030. Specifically, the commenter requested clarification on the reporting of claims/liabilities with related institutions on the FFIEC 030. In the proposed instructions of Schedule RAL-A line items 5 and 6, it states to “Report claims/liabilities on U.S. addressees other than parent bank and other depository institutions” and contains no specific instructions on how to treat claims/liabilities with related institutions. However, on the proposed FR 2314 Schedule BS-Q line items 3 and 4, the instructions explicitly state to “exclude balances with related institutions.”

¹ See 89 FR 48639.

The commenter requested that the Board work with the other agencies to clarify that balances with related institutions, as defined in FFIEC 030S and reported in FFIEC 030 proposed Schedule RAL-A items 1-4, should be excluded for the purposes of FFIEC 030 Schedule RAL-A items 5 and 6. In response to the commenter, to make the instructions more parallel between the FFIEC 030 and FR 2314, the agencies will clarify in the FFIEC 030 instructions to explicitly exclude balances with related institutions from the amounts reported in Schedule RAL-A, items 5 and 6.

IV. Timing

The proposed revisions to the FFIEC 030 would be effective as of the March 31, 2025, report date for branches that currently meet the criteria to file the FR 2502q (i.e., those located in the U.K. or Caribbean). For a branch that does not meet the current criteria to file the FR 2502q, but files the FFIEC 030 on a quarterly basis, the effective date for these new items will be as of December 31, 2025.

V. Request for Comment

Public comment is requested on all aspects of this joint notice. Comment is specifically invited on:

(a) Whether the information collection is necessary for the proper performance of the agencies' functions, including whether the information has practical utility;

(b) The accuracy of the agencies' estimate of the burden of the information collection, including the validity of the methodology and assumptions used;

(c) Ways to enhance the quality, utility, and clarity of the information to be collected;

(d) Ways to minimize the burden of the information collection on respondents, including through the use of automated collection techniques or other forms of information technology; and

(e) Estimates of capital or startup costs and costs of operation, maintenance, and purchase of services to provide information.

Comments submitted in response to this joint notice will be shared among the agencies.

Patrick T. Tierney,
Assistant Director, Office of the Comptroller of the Currency.
Board of Governors of the Federal Reserve System.
Benjamin W. McDonough,
Deputy Secretary of the Board.
Federal Deposit Insurance Corporation.
Dated at Washington, DC, on October 1, 2024.
James P. Sheesley,
Assistant Executive Secretary.

[FR Doc. 2024-23125 Filed 10-4-24; 8:45 am]

BILLING CODE 4810-33-P; 6210-01-P; 6714-01-P